DEPARTMENT OF COMMERCE

International Trade Administration

[A-570-020]

Melamine From the People's Republic of China: Final Determination of Sales at Less Than Fair Value

AGENCY: Enforcement and Compliance, International Trade Administration, Commerce.

SUMMARY: On June 18, 2015, the Department of Commerce (“Department”) published the preliminary determination of sales at less than fair value (“LTFV”) of melamine from the People's Republic of China (“PRC”).¹ The Department requested from interested parties, but did not receive, comments on the Preliminary Determination, which was based entirely on adverse facts available. The Department, thus, determines that melamine from the PRC is being, or is likely to be, sold in the United States at LTFV, as provided in section 735 of the Tariff Act of 1930, as amended (the “Act”). The period of investigation (“POI”) is April 1, 2014, though September 30, 2014. The final weighted-average dumping margin of sales at LTFV is listed below in the “Final Determinations” section of this notice.

¹ See Melamine from the People's Republic of China: Preliminary Determination of Sales at Less Than Fair Value, 80 FR 34891 (June 18, 2015) (“Preliminary Determination”).

DATES: Effective: November 6, 2015.

FOR FURTHER INFORMATION CONTACT: James Terpstra, AD/CVD Operations, Office III, Enforcement and Compliance, U.S. Department of Commerce, 14th Street and Constitution Avenue NW., Washington, DC 20230; telephone: (202) 482-3965.

SUPPLEMENTARY INFORMATION:

Background

On June 18, 2015, the Department published the Preliminary Determination.² In the Preliminary Determination, the Department found that the mandatory respondents did not establish their eligibility for a separate rate and were thus part of the PRC-wide entity. In addition, because the PRC-wide entity failed to cooperate to the best of its ability in complying with our requests for information, we preliminarily determined an estimated weighted-average dumping margin based on adverse facts available for the PRC-wide entity in accordance with section 776 of the Act and 19 CFR 351.308.³ The Department invited all interested parties to provide comment on these findings. No interested party provided comments on our preliminary determination. Therefore, this final determination does not differ from the Preliminary Determination. On July 2, 2015, the Department postponed the final determination until November 2, 2015.⁴

² See Preliminary Determination and accompanying Memorandum to Paul Piquado, Assistant Secretary for Enforcement and Compliance, from Christian Marsh, Deputy Assistant Secretary for Antidumping and Countervailing Duty Operations, “Decision Memorandum for Preliminary Determination of the Antidumping Duty Investigation of Melamine from the People's Republic of China,” dated June 10, 2015 (“Preliminary Decision Memorandum”).

³ Id.

⁴ See Melamine from the People's Republic of China: Postponement of Final Determination of Sales at Less Than Fair Value, 80 FR 38175 (July 2, 2015).

Scope of the Order

The merchandise subject to this investigation is melamine (Chemical Abstracts Service (“CAS”) registry number 108-78-01, molecular formula C3H6N6).⁵ Melamine is a crystalline powder or granule typically (but not exclusively) used to manufacture melamine formaldehyde resins. All melamine is covered by the scope of this investigation irrespective of purity, particle size, or physical form. Melamine that has been blended with other products is included within this scope when such blends include constituent parts that have been intermingled, but that have not been chemically reacted with each other to produce a different product. For such blends, only the melamine component of the mixture is covered by the scope of these investigations. Melamine that is otherwise subject to this investigation is not excluded when commingled with melamine from sources not subject to this investigation. Only the subject component of such commingled products is covered by the scope of this investigation.

⁵ Melamine is also known as 2,4,6-triamino-s-triazine; 1,3,5-Triazine-2,4,6-triamine; Cyanurotriamide; Cyanurotriamine; Cyanuramide; and by various brand names.

The subject merchandise is provided for in subheading 2933.61.0000 of the Harmonized Tariff Schedule of the United States (“HTSUS”). Although the HTSUS subheading and CAS registry number are provided for convenience and customs purposes, the written description of the scope is dispositive.

Separate Rate

In the Preliminary Determination, we determined that none of the exporters subject to this investigation demonstrated their eligibility for a separate rate and as such are part of the PRC-wide entity.⁶ No party commented on this determination. As a result, for this final determination, we are continuing to treat these exporters as part of the PRC-wide entity and subject to the PRC-wide rate.

⁶ See Preliminary Determination, and accompanying Preliminary Decision Memorandum at 3-5.

PRC-Wide Entity

In the Preliminary Determination, the Department assigned to the PRC-wide entity a rate of 363.31 percent based upon AFA.⁷ Given that the Department did not receive any comments from interested parties, for this final determination, the Department continues to assign an AFA rate of 363.31 percent to the PRC-wide entity.

⁷ See Preliminary Determination, 80 FR at 34892.

Final Determination

The Department determines that the estimated final weighted-average dumping margin is as follows:

Exporter | Weighted-average margin (percent)
PRC-Wide Entity ⁸ | 363.31

Disclosure

⁸ The PRC-wide entity includes the mandatory respondents Allied Chemicals Inc., Xinji Jiuyuan Chemical Co., Ltd., Sichuan Golden Elephant Sincerity Chemical Co., Ltd., and Zhongyuan Dahua Group Inc., which withdrew from the investigation prior to respondent selection. The PRC-wide entity also includes 26 exporters which received a quantity and value questionnaire from the Department but did not respond to the questionnaire. Those companies are: Anhui Jinhe Industrial Co., Ltd., Anhui Sunson Chemical Group Co., Ltd., Chengdu Yulong Chemical Co., Ltd., Fujian Sangang (Group), Hebei Jinglong Fengli Chemical Co., Ltd., Hefei Tianfeng Import & Export Co Ltd. China, Henan Zhongyuan Dahua Group Co., Ltd., JianFeng Chemicals, Jiangsu Heyou Group Co., Ltd., Jiangsu Sanmu Group Corporation, Kaiwei Investment Group, M and A Chemicals, Corp China, Nanjing Deju Trading Co Ltd. China, Nantong Zixin Industrial Co., Ltd., OCI Trading (Shanghai) Co., Ltd. China, Panjin Zhongrun Chemical Co., Ltd., Qingdao Shida Chemical Co., Ltd. China, Shandong Jinmei Mingshui Chemical Co., Ltd., Shandong Liaherd Chemical Industry Co., Ltd., Shandong Sanhe Chemical Company Ltd., Shandong Xintai Liaherd Chemical Co., Ltd., Shandong Yixing Melamine Co., Ltd., Sichuan Chemical Works Group Ltd., Sinopec Jinling Petrochemical Co., Ltd., Well Hope Enterprises Limited, and Zhejiang Fuyang Yongxing Chemical Co., Ltd.

Normally, the Department discloses to interested parties the calculations performed within five days after the date of publication of the notice of final determination in the Federal Register, in accordance with 19 CFR 351.224(b). However, because there are no changes to our Preliminary Determination, and because we continue to apply AFA to the PRC-wide entity, in accordance with section 776 of the Act, there are no final calculations to disclose.

Continuation of Suspension of Liquidation

In accordance with section 735(c)(1)(B) of the Act, the Department will instruct U.S. Customs and Border Protection (“CBP”) to continue to suspend liquidation of all imports of subject merchandise entered or withdrawn from warehouse, for consumption on or after June 18, 2015, the date of publication of the Preliminary Determination in the Federal Register. Pursuant to 19 CFR 351.205 (d), the Department will instruct CBP to require a cash deposit equal to the weighted-average amount by which the NV exceeds U.S. price, adjusted where appropriate for export subsidies,⁹ as follows: (1) The rate for the exporters listed in the chart above will be the rate we have determined in this final determination; (2) for all PRC exporters of subject merchandise which have not received their own rate, the cash-deposit rate will be the PRC-wide rate; and (3) for all non-PRC exporters of subject merchandise which have not received their own rate, the cash-deposit rate will be the rate applicable to the PRC exporter/producer combination that supplied that non-PRC exporter. These suspension-of-liquidation instructions will remain in effect until further notice.

⁹ See section 772(c)(1)(C) of the Act. Unlike in administrative reviews, the Department calculates the adjustment for export subsidies in investigations not in the margin calculation program, but in the cash deposit instructions issued to CBP. See Notice of Final Determination of Sales at Less Than Fair Value, and Negative Determination of Critical Circumstances: Certain Lined Paper Products from India, 71 FR 45012 (August 8, 2006), and accompanying Issues and Decision Memorandum at Comment 1.

As stated previously, we will adjust cash deposit rates by the amount of export subsidies, where appropriate. In this LTFV investigation, with regard to PRC-wide entity, export subsidies constitute 9.66 percent ¹⁰ of the final calculated countervailing duty rate in the concurrent countervailing duty investigation, and, thus, we will offset the PRC-wide rate of 363.31 percent by the countervailing duty rate attributable to export subsidies (i.e., 9.66 percent) ¹¹ to calculate the cash deposit rate for this LTFV investigation. We are not adjusting the PRC-wide rate for estimated domestic subsidy pass-through because we have no basis upon which to make such an adjustment.¹²

¹⁰ The following subsidy programs in the concurrent countervailing duty investigation are export subsidies: Preferential Export Financing from the Export-Import Bank of China (4.25%), Reduced Fee Export Insurance (4.25%), Grants to Cover Legal Fees in Trade Remedy Cases (0.58%), and Cash Grants for Exports (0.58%).

¹¹ See Melamine from the People's Republic of China: Final Affirmative Countervailing Duty Determination, dated concurrently with this notice.

¹² See Preliminary Decision Memorandum at the section, “Section 777A(f) of the Act.”

U.S. International Trade Commission (“ITC”) Notification

In accordance with section 735(d) of the Act, we will notify the ITC of our final determination of sales at LTFV. As our final determination is affirmative, in accordance with section 735(b)(2) of the Act, the ITC will, within 45 days, determine whether the domestic industry in the United States is materially injured, threatened with material injury, or the establishment of an industry in the United States is materially retarded by reason of imports or sales (or the likelihood of sales) for importation of the subject merchandise. If the ITC determines that material injury, threat of material injury, or material retardation does not exist, the proceeding will be terminated and all securities posted will be refunded or canceled. If the ITC determines that such injury, threat of injury, or retardation does exist, the Department will issue an antidumping duty order directing CBP to assess antidumping duties on all imports of the subject merchandise entered or withdrawn from warehouse for consumption on or after the effective date of the suspension of liquidation.

Notification Regarding Administrative Protective Order (“APO”)

This notice also serves as a reminder to the parties subject to APO of their responsibility concerning the disposition of proprietary information disclosed under APO in accordance with 19 CFR 351.305. Timely notification of return or destruction of APO materials or conversion to judicial protective order is hereby requested. Failure to comply with the regulations and the terms of an APO is a sanctionable violation.

This determination and notice are issued and published in accordance with sections 735(d) and 777(i)(1) of the Act.

Dated: October 30, 2015.
Paul Piquado,
Assistant Secretary for Enforcement and Compliance.

[FR Doc. 2015-28352 Filed 11-5-15; 8:45 am]

BILLING CODE 3510-DS-P